DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. Currently, the Employment Standards Administration is soliciting comments concerning the proposed extension collection of the following information collection: (1) Regulations 29 CFR part 5, Davis-Bacon and Related Acts/Contract Work Hours and Safety Standards Act Reporting Requirements; and (2) Claim for Compensation by Dependents Information Reports. Copies of the proposed information collection requests can be obtained by contacting the office listed below in the addressee section of this Notice.

DATES: Written comments must be submitted to the office listed in the addressee section below within 60 days of the date of this Notice.

ADDRESSES: Ms. Patricia A. Forkel, U.S. Department of Labor, 200 Constitution Ave., NW., Room S-3201, Washington, DC 20210, telephone (202) 693-0339 (this is not a toll-free number), fax (202) 693-1451.

SUPPLEMENTARY INFORMATION:

29 CFR Part 5, Davis-Bacon and Related Acts/Contract Work Hours and Safety Standards Act Reporting Requirements

I. Background

This regulation prescribes labor standards for federally financed and assisted construction contracts subject to the Davis-Bacon and Related Acts (DBRA), as well as labor standards for construction contracts subject to the Contract Work Hours and Safety Standards Act (CWHSSA). The Davis-Bacon Act provides that every contract wage subject to the Act must contain a provision (wage determination) stating the minimum wages and fringe benefits to be paid the various classes of laborers and mechanics employed on the contract. Any class of laborer or mechanic not listed in the wage determination which is to be employed under the contract shall be classified in conformance with the wage determination, and a report of the action shall be submitted to DOL for review and approval. Further, where a benefit plan is not of the conventional type described in the Act and/or common in the construction industry which is established under a customary fund or program, the regulation provides for contractors to request approval of unfunded fringe benefit plans.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks the extension of approval to collect this information in order to ensure that employees on federally financed or assisted contracts receive the wage protection to which they are entitled by law.

Type of Review: Extension.

Agency: Employment Standards Administration.

Title: Davis-Bacon and Related Acts/Contract Work Hours and Safety Standards Act Reporting Requirements-Regulations 29 CFR part 5.

OMB Number: 1215-0140.

Affected Public: Business or other for-profit; Federal Government; State, Local, or Tribal Government.

Frequency: On occasion.

Requirement | Respondents | Responses | Time per response | Burden hours
Conformance Report | 3,500 | 3,500 | 15 min | 875
Unfunded Fringe Benefit Plans | 6 | 6 | 1 hour | 6

Total Responses: 3,506.

Estimated Total Burden Hours: 881.

Total Burden Cost (capital/startup): $0.

Total Burden Cost (operating/maintenance): $1,262.16.

Claim for Compensation by Dependents Information Reports

I. Background

The forms included in this information request are used by Federal employees and their dependents to claim benefits, prove continued eligibility for benefits, and to show entitlement to the remaining compensation of a deceased beneficiary under the Federal Employees' Compensation Act. There are nine forms in this information collection request. They are the CA-5, CA-5b, CA-1031, CA-1085, CA-1093, CA-1615, CA-1617, CA-1618, and CA-1074.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks the extension of approval to collect this information in order to carry out its responsibility to meet the statutory requirements of the Federal Employees' Compensation Act. The information contained in these forms is used by the Division of Federal Employees' Compensation to determine entitlement to benefits under the Act, to verify dependent status, and to initiate, continue, adjust, or terminate benefits based on eligibility criteria.

Review: Extension.

Agency: Employment Standards Administration.

Title: Request for Earnings Information.

OMB Number: 1215-0155.

Agency Numbers: CA-5, CA-5b, CA-1031, CA-1074, CA-1085, CA-1093, CA-1615, CA-1617, and CA-1618.

Affected Public: Individuals or households.

Form | Respondents/ responses | Frequency | Minutes per form | Burden hours
CA-5 | 150 | Once | 90 | 225
CA-5b | 20 | Once | 90 | 30
CA-1615 | 600 | Once | 30 | 300
CA-1617 | 300 | Semiannually | 30 | 150
CA-1085 | 500 | Once | 45 | 375
CA-1031 | 150 | Annually | 15 | 37
CA-1074 | 10 | Once | 60 | 10
CA-1093 | 15 | Once | 30 | 7
CA-1618 | 150 | Semiannually | 30 | 75

Total Responses: 1,895.

Estimated Total Burden Hours: 1,209.

Total Burden Cost (capital/startup): $0.

Total Burden Cost (operating/maintenance): $435.

Comments submitted in response to this notice will be summarized and/or included in the request for Office of Management and Budget approval of the information collection request; they will also become a matter of public record.

Dated: November 14, 2000.
Margaret J. Sherrill,
Chief, Branch of Management Review and Internal Control, Division of Financial Management, Office of Management, Administration and Planning, Employment Standards Administration.

[FR Doc. 00-29617 Filed 11-17-00; 8:45 am]

BILLING CODE 4510-27-M